DEPARTMENT OF COMMERCE

International Trade Administration

[A-570-924]

Polyethylene Terephthalate Film, Sheet, and Strip From the People's Republic of China: Initiation of Antidumping Duty New Shipper Review

AGENCY: Enforcement & Compliance, formerly Import Administration, International Trade Administration, Department of Commerce.

DATES: Effective Date: December 30, 2013.

SUMMARY: The Department of Commerce (“Department”) has determined that a request for a new shipper review of the antidumping duty order on polyethylene terephthalate film, sheet, and strip (“PET film”) from the People's Republic of China (“PRC”) meets the statutory and regulatory requirements for initiation. The period of review (“POR”) for the new shipper review is November 1, 2012 through October 31, 2013.

FOR FURTHER INFORMATION CONTACT: Jonathan Hill, AD/CVD Operations, Office IV, Enforcement & Compliance, International Trade Administration, U.S. Department of Commerce, 14th Street and Constitution Avenue NW., Washington, DC 20230; telephone: (202) 482-3518.

SUPPLEMENTARY INFORMATION:

Background

The antidumping duty order on polyethylene terephthalate film, sheet, and strip from the PRC was published on November 10, 2008. See Polyethylene Terephthalate Film, Sheet, and Strip From Brazil, the People's Republic of China and the United Arab Emirates: Antidumping Duty Orders and Amended Final Determination of Sales at Less Than Fair Value for the United Arab Emirates, 73 FR 66595 (November 10, 2008). On December 2, 2013, pursuant to section 751(a)(2)(B)(i) of the Tariff Act of 1930, as amended (the “Act”), and 19 CFR 351.214(c), the Department received a timely request for a new shipper review from Now Plastics, Inc. (“Now Plastics”) and its affiliate Huangshi Yucheng Trade Co., Ltd. (“Huangshi Yucheng”) (collectively “Requestor”).¹ On December 12, 2013, the Department received entry data from U.S. Customs and Border Protection (“CBP”). We have also requested entry documents from CBP in order to confirm certain information reported by Huangshi Yucheng. The continuation of the new shipper review will be contingent upon confirmation of the information in the request.²

¹ See Letter from Huangshi Yucheng and Now Plastics to the Secretary of Commerce “Polyethylene Terephthalate Film, Sheet, and Strip from the People's Republic of China; A-570-924; Request for New Shipper Review of Exports by Huangshi Yucheng Trade Co., Ltd.,” dated December 2, 2013. The Department notes that the last day of the anniversary month was Saturday, November 30, 2013. Therefore, the deadline to file a request for a new shipper review was the next business day, i.e., Monday, December 2, 2013.

² See Memorandum to the File through Abdelali Elouaradia, Director, AD/CVD Operations, Office IV “Initiation of Antidumping New Shipper Review of Polyethylene Terephthalate Film, Sheet, and Strip from the People's Republic of China: Huangshi Yucheng Trade Co., Ltd. Initiation Checklist,” dated concurrently with this notice (“Initiation Checklist”), at item 18.

Requestor stated that Jiangsu Shuangxing Color Plastic New Materials Co., Ltd. (“Jiangsu Shuangxing”) is the producer and Huangshi Yucheng is the exporter of the subject merchandise upon which its request for a new shipper review is based. Pursuant to section 751(a)(2)(B)(i)(I) of the Act and 19 CFR 351.214(b)(2)(i), Huangshi Yucheng and Jiangsu Shuangxing certified that they did not export PET film to the United States during the period of investigation (“POI”). In addition, pursuant to section 751(a)(2)(B)(i)(II) of the Act and 19 CFR 351.214(b)(2)(iii)(A), Huangshi Yucheng and Jiangsu Shuangxing certified that, since the initiation of the investigation, they have never been affiliated with any PRC exporter or producer who exported PET film to the United States during the POI, including those not individually examined during the investigation. As required by 19 CFR 351.214(b)(2)(iii)(B), Huangshi Yucheng also certified that its export activities were not controlled by the central government of the PRC.³

³ See generally, Initiation Checklist.

In addition to the certifications described above, pursuant to 19 CFR 351.214(b)(2)(iv), Huangshi Yucheng submitted documentation establishing the following: (1) the date on which it first shipped PET film for export to the United States and the date on which the PET film was first entered, or withdrawn from warehouse, for consumption; (2) the volume of its first shipment; and (3) the date of its first sale to an unaffiliated customer in the United States.⁴

⁴ Id.

The Department conducted a CBP database query and confirmed by examining the results of the CBP data query that Huangshi Yucheng's subject merchandise entered the United States during the POR specified by the Department's regulations.⁵ Pursuant to 19 CFR 351.221(c)(1)(i), the Department will publish the notice of initiation of a new shipper review no later than the last day of the month following the anniversary or semiannual anniversary month of the order.

⁵ See 19 CFR 351.214(g)(1)(i)(A).

Initiation of New Shipper Review

Pursuant to section 751(a)(2)(B) of the Act, 19 CFR 351.214(b), and based on the information on the record, the Department finds that Huangshi Yucheng meets the threshold requirements for initiation of a new shipper review of its shipment(s) of PET film from the PRC.⁶ The POR for the new shipper review of Huangshi Yucheng is November 1, 2012, through October 31, 2013.⁷ The Department intends to issue the preliminary results of this review no later than 180 days from the date of initiation, and the final results of this review no later than 90 days after the date the preliminary results are issued.⁸

⁶ See generally, Initiation Checklist.

⁷ See 19 CFR 351.214(g)(1)(i)(A).

⁸ See section 751(a)(2)(B)(iv) of the Act.

It is the Department's usual practice, in cases involving non-market economies, to require that a company seeking to establish eligibility for an antidumping duty rate separate from the country-wide rate provide evidence of de jure and de facto absence of government control over the company's export activities. Accordingly, we will issue a questionnaire to Huangshi Yucheng which will include a separate rate section. The review of the exporter will proceed if the response provides sufficient indication that the exporter is not subject to either de jure or de facto government control with respect to its exports of PET film.

We will instruct CBP to allow, at the option of the importer, the posting, until the completion of the review, of a bond or security in lieu of a cash deposit for certain entries of the subject merchandise from Huangshi Yucheng in accordance with section 751(a)(2)(B)(iii) of the Act and 19 CFR 351.214(e). Because Requestor stated that Huangshi Yucheng exports the subject merchandise, the sales of which form the basis for its new shipper review request, we will instruct CBP to permit the use of a bond only for entries of subject merchandise which the respondent exported.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: December 23, 2013.
Christian Marsh,
Deputy Assistant Secretary for Antidumping and Countervailing Duty Operations.

[FR Doc. 2013-31280 Filed 12-27-13; 8:45 am]

BILLING CODE 3510-DS-P